ENVIRONMENTAL PROTECTION AGENCY

40 CFR Part 300

[FRL-7379-1]

National Oil and Hazardous Substance Pollution Contingency Plan; National Priorities List Update

AGENCY: Environmental Protection Agency.

ACTION: Notice of deletion for the Del Norte County Pesticide Storage Area Superfund Site from the National Priorities List.

SUMMARY: The Environmental Protection Agency (EPA) Region IX is issuing a Notice of Deletion for the Del Norte County Pesticide Storage Area Superfund Site (Site) located in Crescent City, California, from the National Priorities List (NPL). The NPL is appendix B of 40 CFR part 300 which is the National Oil and Hazardous Substances Pollution Contingency Plan (NCP), which EPA promulgated pursuant to section 105 of the Comprehensive Environmental Response, Compensation, and Liability Act of 1980 (CERCLA), as amended. The EPA and the State of California, through the California Department of Toxic Substances Control, have determined that all appropriate response actions under CERCLA, other than Operation and Maintenance and Five-Year reviews, have been completed. However, this deletion does not preclude future actions under Superfund.

EFFECTIVE DATE: September 18, 2002.

FOR FURTHER INFORMATION CONTACT: Beatriz Bofill, Project Manager, U.S. EPA, Region IX, SFD-7-2, 75 Hawthorne Street, San Francisco, CA 94105-3901, (415) 972-3260 or (800) 231-3075.

SUPPLEMENTARY INFORMATION: The Site to be deleted form the NPL is the Del Norte County Pesticide Storage Area Superfund Site, in Crescent City, California.

A Notice of Intent to Delete for this Site was published in the Federal Register August 8, 2002 (67 FR 51528). The closing date for comments on the Notice of Intent to Delete was September 9, 2002. No comments were received, therefore, EPA has not prepared a Responsiveness Summary. EPA identifies sites that appear to present a significant risk to public health, welfare, or the environment, and it maintains the NPL as the list of those sites. Section 300.425(e)(3) of the NCP states that Fund-financed actions may be taken at sites deleted from the NPL in the unlikely event that conditions at these sites warrant such actions. Deletion of a site from the NPL does not affect responsible party liability or impede EPA's efforts to recover costs associated with response efforts.

List of Subjects in 40 CFR Part 300

Environmental protection, Air pollution control, Chemicals, Hazardous substances, Hazardous waste, Intergovernmental relations, Penalties, Reporting and recordkeeping requirements, Superfund, Water pollution control, Water supply.

Dated: September 10, 2002.
Wayne Nastri,
Regional Administrator, Region IX.

For the reasons set out in the preamble, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

Appendix B—[Amended]

2. Table 1 of appendix B to part 300 is amended by removing the entry for “Del Norte Pesticide Storage, Crescent City, CA,”.

[FR Doc. 02-23742 Filed 9-17-02; 8:45 am]

BILLING CODE 6560-50-P